DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Needs Assessment of the Black Lung Clinics Program: New

The Bureau of Primary Health Care (BPHC), Health Resources and Services Administration (HRSA), is planning to conduct a needs assessment of the Black Lung Clinics Program. The purpose of this study is to obtain data about the Black Lung Clinic Program grantees/sites and the services they provide to active and retired coal miners. The study consists of two sections: (1) a written and telephone survey of the site Program Coordinators about the patients and the services they provide, as well as services that patients would like to receive, but which are not available; and, (2) a measurement of the costs associated with delivering requisite services to this population for whom data will be obtained from secondary sources. The data collected will provide policymakers with a better understanding of the resources needed to continue to support and expand the program. The assessment will provide new information about the organization, financing, and delivery of services to active and retired coal miners in Black Lung Clinic Programs.

Data from the survey and costing will provide quantitative information about the programs, specifically: (a) The characteristics of the patients they serve, (b) the organization components of the program, (c) the scope of services provided, (d) the costs and resources necessary to implement the program, (e) outreach services available, and (f) key unmet needs. This assessment will provide data useful to the program and will enable HRSA to provide data required by Congress under the Government Performance and Results Act of 1993.

The estimated burden is as follows:

Form name | Number of respondents | Responses per respondent | Hours per response | Total burden hours
Survey | 52 | 1 | 8.5 | 442

Written comments and recommendations concerning the proposed information collection should be sent within 30 days of this notice to: John Morrall, Human Resources and Housing Branch, Office of Management and Budget, New Executive Office Building, Room 10235, Washington, DC 20503.

Dated: April 19, 2002.
Jane M. Harrison,
Director, Division of Policy Review and Coordination.

[FR Doc. 02-10233 Filed 4-24-02; 8:45 am]

BILLING CODE 4165-15-P